DEPARTMENT OF THE TREASURY

Agency Information Collection Activities; Submission for OMB Review; Comment Request; Usual and Customary Business Records Maintained by Brewers

AGENCY: Departmental Offices, U.S. Department of the Treasury.

ACTION: Notice.

SUMMARY: The Department of the Treasury will submit the following information collection request(s) to the Office of Management and Budget (OMB) for review and clearance in accordance with the Paperwork Reduction Act of 1995, on or after the date of publication of this notice. The public is invited to submit comments on the collection(s) listed below.

DATES: Comments should be received on or before April 27, 2017 to be assured of consideration.

ADDRESSES: Send comments regarding the burden estimate, or any other aspect of the information collection, including suggestions for reducing the burden, to (1) Office of Information and Regulatory Affairs, Office of Management and Budget, Attention: Desk Officer for Treasury, New Executive Office Building, Room 10235, Washington, DC 20503, or email at OIRA_Submission@OMB.EOP.gov and (2) Treasury PRA Clearance Officer, 1750 Pennsylvania Ave. NW., Suite 8142, Washington, DC 20220, or email at PRA@treasury.gov.

FOR FURTHER INFORMATION CONTACT: Copies of the submissions may be obtained by emailing PRA@treasury.gov, calling (202) 622-0489, or viewing the entire information collection request at www.reginfo.gov.

SUPPLEMENTARY INFORMATION:

Alcohol and Tobacco Tax and Trade Bureau (TTB)

Title: Usual and Customary Business Records Maintained by Brewers.

OMB Control Number: 1513-0058.

Type of Review: Revision of a currently approved collection.

Abstract: The Internal Revenue Code (IRC) at 26 U.S.C. 5415 requires brewers to keep records in such form and containing such information as the Secretary of the Treasury may prescribe by regulation as necessary to protect the revenue. Under this authority, TTB regulations in 27 CFR part 25 require brewers to keep usual and customary business records that allow TTB to verify, for example, the quantities of raw materials received at a brewery, the quantity of beer and cereal beverages produced and removed tax paid or without payment of tax from a brewery, and the quantity of beer previously removed subject tax that is returned to the brewery.

Form: None.

Affected Public: Businesses or other for-profits.

Estimated Total Annual Burden Hours: 1.

Authority: 44 U.S.C. 3501 et seq.

Dated: March 23, 2017.
Spencer W. Clark,
Treasury PRA Clearance Officer.

[FR Doc. 2017-06126 Filed 3-27-17; 8:45 am]

BILLING CODE 4810-31-P